DEPARTMENT OF DEFENSE

Department of the Navy

Notice of Intent To Grant Exclusive Patent License; Seahawk Biosystems Corporation

AGENCY: Department of the Navy, DoD.

ACTION: Notice.

SUMMARY: The Department of the Navy hereby gives notice of its intent to grant to Seahawk Biosystems Corporation, a revocable, non-assignable, exclusive license to practice in the fields of pathogen and toxin detection, and genetic testing in food products derived from vegetables and other organic and non-organic food stuff; pathogen and toxin detection in, and monitoring of, environmental and waste samples such as solid/particulate matter (e.g. soil, dirt, dust, powder, solid waste, etc.), gases (e.g. air, etc.), and liquids; and pathogen and toxin detection, and disease and infection diagnostic testing in solid, liquid, and gaseous material, animals and humans as performed by first responders, field operatives, laboratories, clinics, or other similar confidential and non-confidential uses by private industry or government for biodefense (measures against attacks using biological agents or for the prevention or monitoring thereof), anti-bioterrorism (measures for the prevention or monitoring of real, potential, or perceived terrorist acts involving the use of real, potential, or perceived biological warfare agents such as disease-causing viruses, bacteria, or toxins), national security (measures for the defense of a country and the protection of the interests/assets of a country from biological threats), or intelligence (measures for the collection of information directly or indirectly about a threat or potential threat from an enemy or potential enemy that may pose real, potential, or perceived biological warfare risks to a country or its assets) applications in the United States and certain foreign countries, the Government-owned inventions described in U.S. Patent Application Serial No. 10/457,705: Force Discrimination Assay, Navy Case No. 84,529.//U.S. Patent Application Serial No. 11/424,643: Method for Modifying Nitride Substrates for Covalent Immobilization of Aminated Molecules, Navy Case No. 97,198 and any continuations, divisionals, or re-issues thereof.

DATES: Anyone wishing to object to the grant of this license must file written objections along with supporting evidence, if any, not later than November 22, 2006.

ADDRESSES: Written objections are to be filed with the Naval Research Laboratory, Code 1004, 4555 Overlook Avenue, SW., Washington, DC 20375-5320.

FOR FURTHER INFORMATION CONTACT: Head, Technology Transfer Office, NRL Code 1004, 4555 Overlook Avenue, SW., Washington, DC 20375-5320, telephone 202-767-7230. Due to U.S. Postal delays, please fax 202-404-7920, e-mail: techtran@utopia.nrl.navy.mil or use courier delivery to expedite response.

(Authority: 35 U.S.C. 207, 37 CFR part 404.)

Dated: October 31, 2006.
M.A. Harvison,
Lieutenant Commander, Judge Advocate General's Corps, U.S. Navy, Federal Register Liaison Officer.

[FR Doc. E6-18769 Filed 11-6-06; 8:45 am]

BILLING CODE 3810-FF-P